DEPARTMENT OF LABOR

Comment Request for the Extension of a Currently Approved Collection: Evaluation of the Employment First State Leadership Mentoring Program (EFSLMP)

AGENCY: Office of Disability Employment Policy, Department of Labor.

ACTION: 60-Day notice.

SUMMARY: The Department of Labor, as part of its continuing effort to reduce paperwork and respondent burden, conducts a preclearance consultation program to provide the general public and federal agencies with an opportunity to comment on proposed and/or continuing collections of information in accordance with the Paperwork Reduction Act of 1995 (PRA). This program helps to ensure that requested data can be provided in the desired format, reporting burden (time and financial resources) is minimized, collection instruments are clearly understood, and the impact of collection requirements on respondents is properly assessed. Currently, the Department of Labor is soliciting comments concerning the extension of data collection for the Evaluation of the EFSLMP. A copy of the proposed Information Collection Request (ICR) can be obtained by contacting the office listed in the addressee section of this notice.

DATES: Written comments must be submitted to the office listed in the addressee's section below on or before September 19, 2017.

ADDRESSES: You may submit comments by either one of the following methods: Email: hunter.cherise@dol.gov; Mail or Courier: Cherise Hunter, Office of Disability Employment Policy, U.S. Department of Labor, Room S-1303, 200 Constitution Avenue NW., Washington, DC 20210. Instructions: Please submit one copy of your comments by only one method. All submissions received must include the agency name and OMB Control Number identified below for this information collection. Because we continue to experience delays in receiving mail in the Washington, DC area, commenters are strongly encouraged to transmit their comments electronically via email or to submit them by mail early. Comments, including any personal information provided, become a matter of public record. They will also be summarized and/or included in the request for OMB approval of the information collection request.

FOR FURTHER INFORMATION CONTACT: Cherise Hunter by email at hunter.cherise@dol.gov or by phone at (202) 693-7880.

SUPPLEMENTARY INFORMATION:

I. Background

The proposed information collection extension described in this notice will provide ongoing data for an evaluation of the EFSLMP. EFSLMP, a cross-disability and cross-systems change initiative, provides a platform for multi-disciplinary state teams to focus on implementing an employment first (EF) approach when supporting individuals with disabilities. EFSLMP helps the state teams align policies, coordinate resources, and update service delivery models, to facilitate increased competitive integrated employment options for people with the most significant disabilities.

The purpose of this information collection is to gauge, via a Web-based survey, the effectiveness of ODEP's EFSLMP efforts to promote the implementation of EF policies and practices for persons with disabilities and to determine how well remote training and online forums facilitate the implementation of EF activities in each of the 14 participating states. This Federal Resister Notice provides the opportunity to comment on the extension of the use of the proposed data collection instruments that are used in the study:

* The Community of Practice (CoP) Pre/Post Survey. Community of practice six-part webinar series where participants receive a ‘pre-’ and a ‘post-brief’ survey to gauge the effectiveness of the webinar series. Respondents consist of state direct-services staff and managers in disability services and workforce development.

II. Desired Focus of Comments

Currently, DOL is soliciting comments concerning the extension of data collection for the evaluation of the EFSLMP. DOL is particularly interested in comments that do the following:

• Evaluate whether the proposed collection of information is necessary for the proper performance functions of the agency, including whether the information will have practical utility;

• Evaluate the accuracy of the agency's burden estimate of the proposed information collection, including the validity of the methodology and assumptions used;

• Enhance the quality, utility, and clarity of the information to be collected; and

• Minimize the burden of the collection of information on those who are to respond, including through the use of appropriate automated, electronic, mechanical, or other technological collection techniques or other forms of information technology (for example, permitting electronic submissions of responses).

III. Current Actions

At this time, the Department of Labor is requesting clearance for the extension of data collection to evaluate the EFSLMP via a community of practice pre/post survey.

Type of review: Extension of a currently approved collection.

OMB Control Number: 1230-0007.

Title: Evaluation of the Employment First State Leadership Mentoring Program (EFSLMP).

Estimated Total Burden Hours
Data collection activity | Total number of respondents | Total annual responses | Number of responses per respondent | Average burden hours per response | Total annual estimated burden hours
CoP Pre/Post Survey | 300 | 100 | 6 | 0.26 | 156

Affected Public: State government staff who are members of the EFSLMP Community of Practice.

Form(s): Community of Practice Pre/Post Survey.

Total Respondents: 300.

Annual Frequency: Six times.

Comments submitted will be summarized and/or included in the request for Office of Management and Budget approval of the information collection; they will also become a matter of public record.

Dated: July 12, 2017.
Jennifer Sheehy,
Deputy Assistant Secretary, Office of Disability Employment Policy, U.S. Department of Labor.

[FR Doc. 2017-15315 Filed 7-20-17; 8:45 am]

BILLING CODE 4510-23-P